FEDERAL EMERGENCY MANAGEMENT AGENCY

[FEMA-1398-DR]

Mississippi; Amendment No. 2 to Notice of a Major Disaster Declaration

AGENCY: Federal Emergency Management Agency (FEMA).

ACTION: Notice.

SUMMARY: This notice amends the notice of a major disaster declaration for the State of Mississippi, (FEMA-1398-DR), dated December 7, 2001, and related determinations.

EFFECTIVE DATE: December 20, 2001.

FOR FURTHER INFORMATION CONTACT: Madge Dale, Readiness, Response Recovery Directorate, Federal Emergency Management Agency, Washington, DC 20472, (202) 646-2705 or madge.dale@fema.gov.

SUPPLEMENTARY INFORMATION: The notice of a major disaster declaration for the State of Mississippi is hereby amended to include Public Assistance and the following areas among those areas determined to have been adversely affected by the catastrophe declared a major disaster by the President in his declaration of December 7, 2001:

Benton, Coahoma, Marshall, Prentiss, Tallahatchie, and Tippah Counties for Public Assistance.

Bolivar, Humphreys, Panola, Quitman, Sunflower, and Washington Counties for Public Assistance (already designated for Individual Assistance).

Grenada, Lafayette, and Scott Counties for Individual Assistance.

Leake and Tunica Counties for Individual and Public Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Joe M. Allbaugh,
Director.

[FR Doc. 02-323 Filed 1-4-02; 8:45 am]

BILLING CODE 6718-02-P